DEPARTMENT OF THE TREASURY

Internal Revenue Service

26 CFR Part 1

[REG-150066-08]

RIN 1545-BI45

Guidance Regarding Foreign Base Company Sales Income

AGENCY: Internal Revenue Service (IRS), Treasury.

ACTION: Notice of proposed rulemaking by cross-reference to temporary regulations and notice of public hearing; correction.

SUMMARY: This document contains corrections to a notice of proposed rulemaking and notice of public hearing that was published in the Federal Register on Monday, December 29, 2008 (73 FR 79421), relating to foreign base company sales income.

FOR FURTHER INFORMATION CONTACT: Ethan Atticks, (202) 622-3840 (not a toll-free number).

SUPPLEMENTARY INFORMATION:

Background

The notice of proposed rulemaking and notice of public hearing that is subject to these corrections are under section 954 of the Internal Revenue Code.

Need for Correction

As published, the notice of proposed rulemaking and notice of public hearing contains errors that may prove to be misleading and are in need of correction.

Correction of Publication

Accordingly, the publication of the notice of proposed rulemaking and notice of public hearing (REG-150066-08), which was the subject of FR Doc. E8-30729, is corrected as follows:

1. On page 79422, column 1, in the preamble under the heading Background and Explanation of Provision, the last sentence, the language “The preamble to the temporary regulations explains these proposed regulations.” is corrected to read “The preamble to the temporary regulations explains the amendments.”

2. On page 79422, column 2, in the preamble under the heading Comments and Public Hearing, the first paragraph, line 3 the language “consideration will be give to any written” is corrected to read “consideration will be given to any written”.

3. On page 79422, column 3, in the preamble under the heading Part 1—Income Taxes, instructional paragraph 2, lines 5 and 6, the language “(b)(2)(ii)(e), (b)(4) Example (3), (c), and (d), and adding Examples 8 and 9 to” is corrected to read “(b)(2)(ii)(e) and (b)(4) Example (3), and adding Examples (8) and (9) to”.

4. On page 79423, column 1, § 1.954-3, the third line of Example (8), the language “(8) is the same as the text of § 1.954-3T” is corrected to read “(8) is the same as the text of § 1.954-3T(b)(4)”.

5. On page 79423, column 1, § 1.954-3, the third line of Example (9), the language “(9) is the same as the text of § 1.954-3T(b)(4)”.

Guy R. Traynor,
Federal Register Liaison, Procedure & Administration, Associate Chief Counsel, Publications & Regulations.

[FR Doc. E9-16192 Filed 7-8-09; 8:45 am]

BILLING CODE 4830-01-P